DEPARTMENT OF HOUSING AND URBAN DEVELOPMENT

[Docket No. FR-5194-N-14]

Notice of Proposed Information Collection: Comment Request; Study of Capital Needs in the Public Housing Program

AGENCY: Office of the Assistant Secretary for Public and Indian Housing, HUD.

ACTION: Notice of proposed information collection.

SUMMARY: The proposed information collection requirement described below will be submitted to the Office of Management and Budget (OMB) for review, as required by the Paperwork Reduction Act. The Department is soliciting public comments on the subject proposal.

DATES: Comments Due Date: November 10, 2008.

ADDRESSES: Interested persons are invited to submit comments regarding this proposal. Comments should refer to the proposal by name or OMB Control Number and should be sent to: Lillian L. Deitzer, Departmental Reports Management Officer, QDAM, Department of Housing and Urban Development, 451 7th Street, SW., Room 4178, Washington, DC 20410-5000; telephone 202-402-8048 (this is not a toll-free number) or e-mail Ms. Deitzer at Lillian.L.Deitzer@hud.gov for a copy of the proposed interview guides, survey instruments, or other available information.

FOR FURTHER INFORMATION CONTACT: Mary Schulhof, Office of Policy, Program and Legislative Initiatives, PIH, Department of Housing and Urban Development, 451 7th Street, SW., Room 4116, Washington, DC 20410; telephone 202-708-0713 (this is not a toll-free number).

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Study of Capital Needs in the Public Housing Program.

OMB Control Number: 2577-pending.

Description of the need for the information and proposed use: In response to a congressional request, the Department is conducting a study of the existing and accrual capital needs of the public housing stock. Through a combination of on-site inspections and Public Housing Authority (PHA) interviews, capital needs will be estimated at the national level for subcategories such as housing authority size (measured by number of ACC units) and region. The findings will be compared to those from an earlier study, Capital Needs of the Public Housing Stock in 1998: Formula Capital Study (January 30, 2000), to illustrate how existing and accrual needs have changed over time. The study is also required to investigate the feasibility of using Real Estate Assessment Center (REAC) inspections to facilitate ongoing estimates of public housing capital needs. The collected information will support budgeting, planning, and evaluation efforts by Congress and HUD.

Agency form number, if applicable: Not applicable.

Members of affected public: Staff from Public Housing Authorities included in the sample.

Estimation of the total number of hours needed to prepare the information collection including number of respondents: The total burden for data collection is estimated at 4,820 hours (4,400 hours for physical inspections of units and 420 hours for a PHA survey). Since the entire data collection period is roughly six months within the same calendar year, the total burden hours are the same as the average annual burden hours. Each of the 550 properties selected for inspection will need to provide a knowledgeable staff member to accompany the inspector during the 8 hour inspection. At each of the 140 PHAs selected, an average of three staff members (such as the executive director, director of modernization, engineer, or asset manager) will need to spend a combined total of approximately 180 minutes responding to our information requests and follow-up questions.

Data collected | Number of respondents | Burden per respondent (minutes) | Total respondent burden (minutes) | Total respondent burden (hours)
Physical Inspections ¹ | 550 | 480 | 264,000 | 4,400
PHA Survey | 420 | 60 | 25,200 | 420
Total | 970 | n.a. | 289,200 | 4,820
¹ The physical inspection process is estimated to take about 8 hours per property. A building or property manager is expected to accompany the inspector during the inspection.

Status of the proposed information collection: New collection.

Authority: Section 3506 of the Paperwork Reduction Act of 1995, 44 U.S.C. Chapter 35, as amended.

Dated: August 28, 2008.
Merrie Nichols-Dixon,
Director, Trouble Agency Recovery Operations.

[FR Doc. E8-21022 Filed 9-9-08; 8:45 am]

BILLING CODE 4210-67-P